DEPARTMENT OF TRANSPORTATION

Federal Aviation Administration

14 CFR Part 39

[Docket No. FAA-2022-1645; Project Identifier MCAI-2022-00734-T; Amendment 39-22371; AD 2023-05-02]

RIN 2120-AA64

Airworthiness Directives; Airbus SAS Airplanes

AGENCY: Federal Aviation Administration (FAA), DOT.

ACTION: Final rule.

SUMMARY: The FAA is superseding Airworthiness Directive (AD) 2020-21-10, which applied to certain Airbus SAS Model A318, A320, and A321 series airplanes; and Model A319-111, -112, -113, -114, -115, -131, -132, -133, -151N, and -153N airplanes; and AD 2022-07-08, which applied to all Airbus SAS Model A318, A319, A320 and A321 series airplanes. AD 2020-21-10 and AD 2022-07-08 required revising the existing maintenance or inspection program, as applicable, to incorporate new or more restrictive airworthiness limitations. This AD was prompted by a determination that new or more restrictive airworthiness limitations are necessary. This AD continues to require the actions in AD 2020-21-10 and AD 2022-07-08 and requires revising the existing maintenance or inspection program, as applicable, to incorporate additional new or more restrictive airworthiness limitations, as specified in a European Union Aviation Safety Agency (EASA) AD, which is incorporated by reference. The FAA is issuing this AD to address the unsafe condition on these products.

DATES: This AD is effective April 18, 2023.

The Director of the Federal Register approved the incorporation by reference of a certain publication listed in this AD as of April 18, 2023.

The Director of the Federal Register approved the incorporation by reference of a certain other publication listed in this AD as of May 19, 2022 (87 FR 22117, April 14, 2022).

The Director of the Federal Register approved the incorporation by reference of a certain other publication listed in this AD as of November 19, 2020 (85 FR 65190, October 15, 2020).

ADDRESSES:

AD Docket: You may examine the AD docket at regulations.gov under Docket No. FAA-2022-1645; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• You may view this service information at the FAA, Airworthiness Products Section, Operational Safety Branch, 2200 South 216th St., Des Moines, WA. For information on the availability of this material at the FAA, call 206-231-3195. It is also available in the AD docket at regulations.gov under Docket No. FAA-2022-1645.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Background

The FAA issued a notice of proposed rulemaking (NPRM) to amend 14 CFR part 39 to supersede AD 2020-21-10, Amendment 39-21283 (85 FR 65190, October 15, 2020) (AD 2020-21-10) and AD 2022-07-08, Amendment 39-21996 (87 FR 22117, April 14, 2022) (AD 2022-07-08).

AD 2020-21-10 applied to certain Airbus SAS Model A318, A320, and A321 series airplanes, and Model A319-111, -112, -113, -114, -115, -131, -132, -133, -151N, and -153N airplanes. AD 2020-21-10 required revising the existing maintenance or inspection program, as applicable, to incorporate new or more restrictive airworthiness limitations. The FAA issued AD 2020-21-10 to address the risks associated with the effects of aging on airplane systems. Such effects could change system characteristics, leading to an increased potential for failure of certain life-limited parts, and reduced structural integrity or controllability of the airplane.

AD 2022-07-08 applied to all Airbus SAS Model A318, A319, A320, and A321 series airplanes. AD 2022-07-08 required inspections of certain trimmable horizontal stabilizer actuators (THSAs) and replacement if necessary, and revising the existing maintenance or inspection program, as applicable, to incorporate new or more restrictive airworthiness limitations. The FAA issued AD 2022-07-08 to address premature wear of the carbon friction disks on the no-back brake of the THSA, which could lead to reduced braking efficiency in certain load conditions, and, in conjunction with the inability of the power gear train to keep the ball screw in its last commanded position, could result in uncommanded movements of the trimmable horizontal stabilizer and loss of control of the airplane. AD 2022-07-08 also specified that accomplishing the revision required by that AD terminates certain requirements of AD 2020-21-10. This AD continues to allow that termination.

The NPRM published in the Federal Register on December 19, 2022 (87 FR 77535). The NPRM was prompted by AD 2022-0102, dated June 8, 2022, issued by EASA, which is the Technical Agent for the Member States of the European Union (EASA AD 2022-0102) (referred to after this as the MCAI). The MCAI states that new or more restrictive airworthiness limitations have been developed to address the unsafe condition on these products, which, if not addressed, could result in an increased potential for failure of certain life-limited parts, and reduced structural integrity of the airplane. EASA AD 2022-0102 superseded EASA AD 2020-0034, dated February 25, 2020, and EASA AD 2020-0270, dated December 7, 2020 (which correspond to FAA AD 2020-21-10 and AD 2022-07-08, respectively).

EASA AD 2022-0102 specifies that the revised airworthiness limitations section document contains new tasks 274000-00002-1-E and 274000-00003-1-E, which cover the inspections, corrective actions, and reporting previously required by EASA AD 2017-0237, dated December 4, 2017 (which corresponds to FAA AD 2018-23-02, Amendment 39-19488 (83 FR 59278, November 23, 2018) (AD 2018-23-02)). Accomplishing the revision of the existing maintenance or inspection program required by paragraph (n) of this AD terminates the requirements of paragraphs (g) through (k) of AD 2018-23-02 for Airbus SAS Model A318 series airplanes; Model A319-111, -112, -113, -114, -115, -131, -132, and -133 airplanes; Model A320-211, -212, -214, -216, -231, -232, and -233 airplanes; and Model A321-111, -112, -131, -211, -212, -213, -231, and -232 airplanes only.

In the NPRM, the FAA proposed to continue to require the actions in AD 2020-21-10 and AD 2022-07-08. The NPRM also proposed to require revising the existing maintenance or inspection program, as applicable, to incorporate additional new or more restrictive airworthiness limitations, as specified in EASA AD 2022-0102. The FAA is issuing this AD to address the risks associated with the effects of aging on airplane systems. Such effects could change system characteristics. The unsafe condition, if not addressed, could result in an increased potential for failure of certain life-limited parts, and reduced structural integrity of the airplane.

You may examine the MCAI in the AD docket at regulations.gov under Docket No. FAA-2022-1645.

Discussion of Final Airworthiness Directive

Comments

The FAA received a comment from the Air Line Pilots Association, International (ALPA), who supported the NPRM without change.

Previous Alternative Methods of Compliance (AMOCs)

Paragraphs (r)(1)(ii) and (iii) of the proposed AD allowed previous AMOCs as AMOCs for the corresponding provisions of paragraph (n) of the proposed AD (which contain new requirements). However, the AMOC paragraphs did not indicate that the previous AMOCs were allowed to continue to be AMOCs for the retained requirements in paragraphs (g), (h), (j), and (k) of the proposed AD. The FAA has added paragraphs (r)(1)(ii) and (iii) to this AD to allow previous AMOCs as AMOCs to the restated requirements of this AD and reidentified subsequent paragraphs accordingly.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed EASA AD 2022-0102, dated June 8, 2022, which specifies new or more restrictive airworthiness limitations for airplane structures and safe life limits.

This AD requires EASA AD 2020-0270, dated December 7, 2020, which the Director of the Federal Register approved for incorporation by reference as of May 19, 2022 (87 FR 22117, April 14, 2022).

This AD requires EASA AD 2020-0034, dated February 25, 2020, which the Director of the Federal Register approved for incorporation by reference as of November 19, 2020 (85 FR 65190, October 15, 2020).

This material is reasonably available because the interested parties have access to it through their normal course of business or by the means identified in ADDRESSES.

Costs of Compliance

The FAA estimates that this AD affects 1,864 airplanes of U.S. registry. The FAA estimates the following costs to comply with this AD:

The FAA estimates the total cost per operator for the retained actions from AD 2020-21-10 to be $7,650 (90 work-hours × $85 per work-hour).

The FAA estimates the total cost per operator for the retained actions from AD 2022-07-08 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-21-10, Amendment 39-21283 (85 FR 65190, October 15, 2020); and AD 2022-07-08, Amendment 39-21996 (87 FR 22117, April 14, 2022); and

b. Adding the following new airworthiness directive:

2023-05-02 Airbus SAS: Amendment 39-22371; Docket No. FAA-2022-1645; Project Identifier MCAI-2022-00734-T.

(a) Effective Date

This airworthiness directive (AD) is effective April 18, 2023.

(b) Affected ADs

(1) This AD replaces AD 2020-21-10, Amendment 39-21283 (85 FR 65190, October 15, 2020) (AD 2020-21-10).

(2) This AD replaces AD 2022-07-08, Amendment 39-21996 (87 FR 22117, April 14, 2022) (AD 2022-07-08).

(3) This AD affects AD 2018-23-02, Amendment 39-19488 (83 FR 59278, November 23, 2018) (AD 2018-23-02).

(c) Applicability

This AD applies to Airbus SAS airplanes identified in paragraphs (c)(1) through (4) of this AD, certificated in any category, with an original airworthiness certificate or original export certificate of airworthiness issued on or before February 18, 2022.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 05, Time Limits/Maintenance Checks.

(e) Unsafe Condition

This AD was prompted by a determination that additional new or more restrictive airworthiness limitations are necessary. The FAA is issuing this AD to address the risks associated with the effects of aging on airplane systems. Such effects could change system characteristics. The unsafe condition, if not addressed, could result in an increased potential for failure of certain life-limited parts, and reduced structural integrity of the airplane.

(f) Compliance

Comply with this AD within the compliance times specified, unless already done.

(g) Retained Revision of the Existing Maintenance or Inspection Program From AD 2020-21-10, With No Changes

This paragraph restates the requirements of paragraph (i) of AD 2020-21-10, with no changes. For airplanes with an original airworthiness certificate or original export certificate of airworthiness issued on or before November 7, 2019, except for Model A319-171N airplanes: Except as specified in paragraph (h) of this AD: Comply with all required actions and compliance times specified in, and in accordance with, European Union Aviation Safety Agency (EASA) AD 2020-0034, dated February 25, 2020 (EASA AD 2020-0034). Accomplishing the revision of the existing maintenance or inspection program required by paragraph (n) of this AD terminates the requirements of this paragraph.

(h) Retained Exceptions to EASA AD 2020-0034, With No Changes

This paragraph restates the exceptions specified in paragraph (j) of AD 2020-21-10, with no changes.

(1) The requirements specified in paragraphs (1) and (2) of EASA AD 2020-0034 do not apply to this AD.

(2) Paragraph (3) of EASA 2020-0034 specifies revising “the AMP” within 12 months after its effective date, but this AD requires revising the existing maintenance or inspection program, as applicable, to incorporate the “tasks and associated thresholds and intervals” specified in paragraph (3) of EASA 2020 0034 within 90 days after November 19, 2020 (the effective date AD 2020-21-10).

(3) The initial compliance time for doing the tasks specified in paragraph (3) of EASA AD 2020-0034 is at the applicable “associated thresholds” specified in paragraph (3) of EASA AD 2020-0034, or within 90 days after November 19, 2020 (the effective date AD 2020-21-10), whichever occurs later.

(4) The provisions specified in paragraphs (4) and (5) of EASA AD 2020-0034 do not apply to this AD.

(5) The “Remarks” section of EASA AD 2020-0034 does not apply to this AD.

(i) Retained Provisions for Alternative Actions and Intervals From AD 2020-21-10, With a New Exception

This paragraph restates the requirements of paragraph (k) of AD 2020-21-10, with a new exception. Except as required by paragraph (n) of this AD, after the maintenance or inspection program has been revised as required by paragraph (g) of this AD, no alternative actions (e.g., inspections) and intervals are allowed unless they are approved as specified in the provisions of the “Ref. Publications” section of EASA AD 2020-0034.

(j) Retained Revision of the Existing Maintenance or Inspection Program From AD 2022-07-08, With No Changes

This paragraph restates the requirements of paragraph (l) of AD 2022-07-08, with no changes. Accomplishing the revision of the existing maintenance or inspection program required by paragraph (n) of this AD terminates the requirements of this paragraph.

(1) For airplanes with an original airworthiness certificate or original export certificate of airworthiness issued on or before October 5, 2020, except as specified in paragraph (k) of this AD: Comply with all required actions and compliance times specified in, and in accordance with, EASA AD 2020-0270, dated December 7, 2020 (EASA AD 2020-0270).

(2) For airplanes with an original airworthiness certificate or original export certificate of airworthiness issued after October 5, 2020, revise the existing maintenance or inspection program, as applicable, to incorporate the provision specified in paragraph (k)(7) of this AD.

(k) Retained Exceptions to EASA AD 2020-0270, With No Changes

This paragraph restates the exceptions specified in paragraph (m) of AD 2022-07-08, with no changes.

(1) Where EASA AD 2020-0270 refers to its effective date, this AD requires using May 19, 2022 (the effective date AD 2022-07-08).

(2) The requirements specified in paragraphs (1) and (2) of EASA AD 2020-0270 do not apply to this AD.

(3) Paragraph (3) of EASA AD 2020-0270 specifies revising “the approved AMP” within 12 months after its effective date, but this AD requires revising the existing maintenance or inspection program, as applicable, within 90 days after May 19, 2022 (the effective date AD 2022-07-08).

(4) The initial compliance time for doing the tasks specified in paragraph (3) of EASA AD 2020-0270 is at the applicable “limitations” as incorporated by the requirements of paragraph (3) of EASA AD 2020-0270, or within 90 days after May 19, 2022 (the effective date AD 2022-07-08), whichever occurs later.

(5) The provisions specified in paragraph (4) of EASA AD 2020-0270 do not apply to this AD.

(6) The “Remarks” section of EASA AD 2020-0270 does not apply to this AD.

(7) For all airplanes identified in paragraph (c) of this AD: Where the Note for Item 274000-00004-1-E of Section 4-1 in the service information referenced in EASA AD 2020-0270 specifies “NBB carbon disc replacement” instructions, for this AD, replace the text “NBB carbon disc replacement can be accomplished in accordance with SB A320-27-1242 or VSB 47145-27-17,” with “NBB carbon disk replacement must be accomplished in accordance with SB A320-27-1242.”

(l) Retained Provisions for Alternative Actions and Intervals AD 2022-07-08, With a New Exception

This paragraph restates the requirements of paragraph (n) of AD 2022-07-08, with a new exception. Except as required by paragraph (n) of this AD, after the maintenance or inspection program has been revised as required by paragraph (j) of this AD, no alternative actions (e.g., inspections) or intervals are allowed unless they are approved as specified in the provisions of the “Ref. Publications” section of EASA AD 2020-0270.

(m) Retained Terminating Action for Certain Requirements of Paragraph (g) of This AD

This paragraph restates the terminating action specified in paragraph (o) of AD 2022-07-08. Accomplishing the actions required by paragraph (j) of this AD terminates the airworthiness limitations section (ALS) limitation task 274000-00004-1-E for the trimmable horizontal stabilizer actuator (THSA), as required by paragraph (g) of this AD.

(n) New Revision of the Existing Maintenance or Inspection Program

Except as specified in paragraph (o) of this AD, comply with all required actions and compliance times specified in, and in accordance with, EASA AD 2022-0102, dated June 8, 2022 (EASA AD 2022-0102). Accomplishing the revision of the existing maintenance or inspection program required by this paragraph terminates the requirements of paragraphs (g) and (j) of this AD.

(o) Exceptions to EASA AD 2022-0102

(1) This AD does not adopt the requirements specified in paragraphs (1) and (2) of EASA AD 2022-0102.

(2) Paragraph (3) of EASA AD 2022-0102 specifies revising “the approved AMP” within 12 months after its effective date, but this AD requires revising the existing maintenance or inspection program, as applicable, within 90 days after the effective date of this AD.

(3) The initial compliance time for doing the tasks specified in paragraph (3) of EASA AD 2022-0102 is at the applicable “limitations” and “associated thresholds” as incorporated by the requirements of paragraph (3) of EASA AD 2022-0102, or within 90 days after the effective date of this AD, whichever occurs later.

(4) This AD does not adopt the provisions specified in paragraphs (4) and (5) of EASA AD 2022-0102.

(5) This AD does not adopt the “Remarks” section of EASA AD 2022-0102.

(p) New Provisions for Alternative Actions and Intervals

After the existing maintenance or inspection program has been revised as required by paragraph (n) of this AD, no alternative actions (e.g., inspections) or intervals are allowed unless they are approved as specified in the provisions of the “Ref. Publications” section of EASA AD 2022-0102.

(q) New Terminating Action for Certain Requirements of AD 2018-23-02

Accomplishing the revision of the existing maintenance or inspection program required by paragraph (n) of this AD terminates the requirements of paragraphs (g) through (k) of AD 2018-23-02 for Airbus SAS Model A318 series airplanes; Model A319-111, -112, -113, -114, -115, -131, -132, and -133 airplanes; Model A320-211, -212, -214, -216, -231, -232, and -233 airplanes; and Model A321-111, -112, -131, -211, -212, -213, -231, and -232 airplanes only.

(r) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (s) of this AD.

(i) Before using any approved AMOC, notify your appropriate principal inspector, or lacking a principal inspector, the manager of the responsible Flight Standards Office.

(ii) AMOCs approved previously for AD 2020-21-10 are approved as AMOCs for the corresponding provisions of paragraphs (g) and (h) of this AD.

(iii) AMOCs approved previously for AD 2022-07-08 are approved as AMOCs for the corresponding provisions of paragraphs (j) and (k) of this AD.

(iv) AMOCs approved previously for AD 2020-21-10 are approved as AMOCs for the corresponding provisions of EASA AD 2022-0102 that are required by paragraph (n) of this AD.

(v) AMOCs approved previously for AD 2022-07-08 are approved as AMOCs for the corresponding provisions of EASA AD 2022-0102 that are required by paragraph (n) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(s) Additional Information

For more information about this AD, contact Dan Rodina, Aerospace Engineer, Large Aircraft Section, FAA, International Validation Branch, 2200 South 216th St., Des Moines, WA 98198; telephone 206-231-3225; email dan.rodina@faa.gov.

(t) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on April 18, 2023.

(i) European Union Aviation Safety Agency (EASA) AD 2022-0102, dated June 8, 2022.

(ii) [Reserved]

(4) The following service information was approved for IBR on May 19, 2022 (87 FR 22117, April 14, 2022).

(i) European Union Aviation Safety Agency (EASA) AD 2020-0270, dated December 7, 2020.

(ii) [Reserved]

(5) The following service information was approved for IBR on November 19, 2020 (85 FR 65190, October 15, 2020).

(i) European Union Aviation Safety Agency (EASA) AD 2020-0034, dated February 25, 2020.

(ii) [Reserved]

(6) For EASA ADs 2022-0102, 2020-0270, and 2020-0034, contact EASA, Konrad-Adenauer-Ufer 3, 50668 Cologne, Germany; telephone +49 221 8999 000; email ADs@easa.europa.eu; website easa.europa.eu. You may find these EASA ADs on the EASA website at ad.easa.europa.eu.

(7) You may view this service information at FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: www.archives.gov/federal-register/cfr/ibr-locations.html.

Issued on March 2, 2023.
Christina Underwood,
Acting Director, Compliance & Airworthiness Division, Aircraft Certification Service.

[FR Doc. 2023-05061 Filed 3-13-23; 8:45 am]

BILLING CODE 4910-13-P